DEPARTMENT OF COMMERCE

National Oceanic and Atmospheric Administration

RIN 0648-XA492

Fisheries of the Caribbean; Southeast Data, Assessment, and Review (SEDAR); Public Meeting

AGENCY: National Marine Fisheries Service (NMFS), National Oceanic and Atmospheric Administration (NOAA), Commerce.

ACTION: Notice of SEDAR 26 Assessment Workshop for Caribbean silk snapper, queen snapper and redtail parrotfish.

SUMMARY: The SEDAR assessments of the Caribbean stocks of silk snapper, queen snapper and redtail parrotfish will consist of a series of three workshops and webinars: a Data Workshop, an Assessment Workshop, and a Review Workshop.

DATES: The Assessment Workshop will take place July 26-29, 2011. See SUPPLEMENTARY INFORMATION for specific dates and times.

ADDRESSES: The Assessment Workshop will be held at the Wyndham Sugar Bay Resort & Spa, 6500 Estate Smith Bay, St. Thomas, USVI 00802; telephone: (340) 777-7100.

FOR FURTHER INFORMATION CONTACT: Julie A. Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop and webinars is a stock assessment report which describes the fisheries, evaluates the status of the stock, estimates biological benchmarks, projects future population conditions, and recommends research and monitoring needs. The assessment is independently peer reviewed at the Review Workshop. The product of the Review Workshop is a Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGOs; International experts; and staff of Councils, Commissions, and state and Federal agencies.

SEDAR 26 Assessment Workshop Schedule

July 26-29, 2011; SEDAR 26 Assessment Workshop

July 26, 2011: 9 a.m.-8 p.m.; July 27-28, 2011: 8 a.m.-8 p.m.; July 29, 2011: 8 a.m.-12 p.m.

Using datasets provided by the Data Workshop, participants will develop population models to evaluate stock status, estimate population benchmarks and stock status criteria, and project future conditions. Participants will recommend the most appropriate methods and configurations for determining stock status and estimating population parameters. Participants will prepare a workshop report, compare and contrast various assessment approaches, and determine whether the assessments are adequate for submission to the review panel.

The established times may be adjusted as necessary to accommodate the timely completion of discussion relevant to the assessment process. Such adjustments may result in the meeting being extended from, or completed prior to the time established by this notice.

Special Accommodations

These meetings are physically accessible to people with disabilities. Requests for sign language interpretation or other auxiliary aids should be directed to the Council office (see ADDRESSES) at least 10 business days prior to each workshop.

Dated: June 9, 2011.
Tracey L. Thompson,
Acting Director, Office of Sustainable Fisheries, National Marine Fisheries Service.

[FR Doc. 2011-14668 Filed 6-13-11; 8:45 am]

BILLING CODE 3510-22-P